DEPARTMENT OF HEALTH AND HUMAN SERVICES

Administration for Community Living

Solicitation for Nominations To Serve on the Family Caregiving Advisory Council

AGENCY: Administration for Community Living, HHS.

ACTION: Notice.

SUMMARY: The Principal Deputy Administrator of the Administration for Community Living (ACL) seeks nominations for individuals to serve on the Family Caregiving Advisory Council.

DATES: Nominations must be submitted electronically by 11:59 p.m., Eastern on April 11, 2022 to be considered for appointment.

ADDRESSES: Method of Submission: Nominations, including all requested information (see Nomination Process below) and attachments, must be submitted electronically to: RAISE.mail@acl.hhs.gov.

SUPPLEMENTARY INFORMATION: The Family Caregiving Advisory Council (the Advisory Council) is authorized under Section 4 of the Recognize, Assist, Include, Support, and Engage Family Caregivers Act of 2017 (Pub. L. 115-119), commonly referred to as the “RAISE Family Caregivers Act.” The Advisory Council studies and prepares findings, conclusions, and makes recommendations to the Administrator of ACL/Assistant Secretary for Aging on matters pertaining to: (a) Evidence-based or promising practices and innovative models for the provision of care by family caregivers or support for family caregivers; and (b) Improving coordination across federal government programs. The Advisory Council advises and provides recommendations to the Administrator on recognizing and supporting family caregivers. The Advisory Council consists of at least three ex officio federal members: The Administrator of the Centers for Medicare & Medicaid Services (or the Administrator's designee); the Administrator of the Administration for Community Living (or the Administrator's designee who has experience with both aging and disability); and the Secretary of Veterans Affairs (or the Secretary's designee). Heads of other federal departments or agencies (or their designees) also may be appointed as ex officio members. In addition, the ACL Administrator will appoint a maximum of fifteen non-federal voting members, with at least one from each of the following constituencies: Family caregivers; older adults who need long-term services and supports; individuals with disabilities; health care and social service providers; providers of long-term services and supports; employers; paraprofessional workers; state and local officials; accreditation bodies; veterans; and as appropriate, other experts and advocates engaged in family caregiving.

Additionally, in keeping with the Biden administration's commitment to equity and inclusion, voting members selected to serve on the Advisory Council will reflect the diversity of family caregivers and those persons receiving services and supports. Nominations are sought from individuals representing the aging and disability communities, tribes, racial and ethnically diverse communities, LGBTQ, and other underrepresented or underserved populations.

Advisory Council Responsibilities: The Advisory Council's efforts will build on the accomplishments of the previous council, whose term expires in August 2022. In this regard, the Advisory Council will support the information gathering for, and preparation of, biennial updates to the initial Report to Congress, including new developments, challenges, opportunities, and solutions to better recognize and support family caregivers along with recommendations for priority actions to update, improve, and keep current the National Family Caregiving Strategy, as appropriate.

The Advisory Council will submit an annual report on the development, maintenance, and updating of the National Family Caregiving Strategy. The report will include a description of the implementation of the actions recommended in the initial report, as appropriate. This report will be provided to the Secretary, Congress, and the state agencies responsible for carrying out family caregiver programs.

The Advisory Council, or its individual members, may also be engaged to author/co-author articles and other materials; engage with print and electronic media; and deliver presentations, workshops, webinars and other forms of educational opportunities designed to highlight the Administration's commitment to supporting families and family caregivers.

As needed, and where appropriate, this Advisory Council will coordinate its efforts with those of the Advisory Council to Support Grandparents Raising Grandchildren. Such coordination might include joint meetings, presentations and other activities undertaken in fulfillment of the requirements of the RAISE Act.

The Advisory Council will meet virtually (via Zoom or similar platform), at least three times each year, beginning in September/October 2022. Council meetings will generally be held from 12:30 to 4:30 p.m., Eastern Time. All meetings of the Council will be open to the public and recorded for posting on the ACL website. Advisory Council members will be expected to participate in at least one subcommittee, which will meet, as needed, between Advisory Council meetings to develop and review materials and conduct other activities related to the Advisory Council's mission and purpose.

The completion of all described activities is dependent upon the continued availability of federal funding for the purposes of carrying out the legislation.

Nomination Process: Any person or organization may nominate one or more qualified individuals for membership. Current Advisory Council members whose terms are expiring may also submit a nomination for consideration. Nomination packages must include:

(1) A nomination letter not to exceed one (1) page that provides ALL of the following information:

a. The reason(s) for nominating the individual;

b. The constituency being represented (from the list above; may be more than one);

c. The nominee's particular, relevant experience and/or professional expertise or lived experience;

d. Contact information for the nominee [name, title (if applicable), address, phone, and email address]; and

e. The nominee's resume (not to exceed two (2) pages) if the nomination is based on their professional capacity or qualifications. A resume is optional otherwise.

Nominees will be selected for appointment based on their demonstrated knowledge, qualifications, and professional or personal experience related to the purpose and scope of the Advisory Council.

(2) Members will be appointed for a period not to exceed three years. Members appointed to fill subsequent vacancies will serve for the remainder of the current term of the Advisory Council.

Dated: March 4, 2022.
Alison Barkoff,
Principal Deputy Administrator, Administration for Community Living.

[FR Doc. 2022-05152 Filed 3-10-22; 8:45 am]

BILLING CODE 4154-01-P